DEPARTMENT OF THE INTERIOR

National Park Service

[NPS-WASO-NAGPRA-NPS0030597; PPWOCRADN0-PCU00RP14.R50000]

Notice of Inventory Completion: Bruce Museum, Inc., Greenwich, CT

AGENCY: National Park Service, Interior.

ACTION: Notice.

SUMMARY: The Bruce Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Bruce Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Bruce Museum at the address in this notice by September 10, 2020.

ADDRESSES: Kirsten J. Reinhardt, NAGPRA Coordinator, Bruce Museum Inc., 1 Museum Drive, Greenwich, CT 06830, telephone (203) 413-6770, email kreinhardt@brucemuseum.org.

SUPPLEMENTARY INFORMATION: Notice is here given in accordance with the Native American Graves Protection and Repatriation Act (NAGPRA), 25 U.S.C. 3003, of the completion of an inventory of human remains and associated funerary objects under the control of the Bruce Museum Inc., Greenwich, CT. The human remains and associated funerary objects were removed from the Cobb Island Drive Site, Greenwich Municipal Building Site, and the Gravel Pit Old Greenwich Site, Fairfield County, CT.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Bruce Museum professional staff in consultation with representatives of the Delaware Nation, Oklahoma; Delaware Tribe of Indians; Mashantucket Pequot Indian Tribe (previously listed as Mashantucket Pequot Tribe of Connecticut); Mohegan Tribe of Indians of Connecticut (previously listed as Mohegan Indian Tribe of Connecticut); and the Narragansett Indian Tribe (hereafter referred to as “The Consulted Tribes”).

History and Description of the Remains

In 1927, human remains representing, at minimum, seven individuals were removed from the Cobb Island Drive Site in Fairfield, CT, by Paul G. Howes. Howes, a curator at the Bruce Museum, examined local earth-moving construction projects after the initial digging was complete, where “unearthed in shallow ground 2½ feet deep, at Cos Cob, all pieces of bones and parts of several skulls, including infants and some deer bone were found together helter skelter” (Bruce Museum accession card number 6795). Howes described an “Extensive collection (four boxes) of badly deteriorated and incomplete human skeletal remains representing a woman and a child, possibly others, recovered from a shallow, 2′6″ to 4′ deep pit that also contained crushed white-tailed deer bones” (Bruce Museum exhibition label, c. 1927). Another label reads, “This badly broken cranium was found two feet below the surface at Cos Cob Connecticut in May, 1927. A few of the fragments have been fitted together showing a long narrow skull, the shape of which is doubtless due in part to pressure after burial. The skull is that of a female considerably younger than the Old Greenwich (Gravel Pit, Old Greenwich Site) find and was possibly an Indian burial.” It appears that Howes returned to the site ten years later. Another exhibition label, c. 1938 reads, “The incomplete skeleton shown here is that of a woman. The bones were unearthed at Cos Cob in October 1937 and they are very old, so old indeed that it was necessary to especially treat them to prevent their eventual falling to pieces. They were in a shallow grave (four feet) and with them were other bones, some of the white-tailed deer and other mammals; others were human remains from which the frontal part of a child's skull was reconstructed.”

The seven individuals include one probable male, 30-40 years old; one probable female, 20-25 years old; one probable male, 20-30 years old; one female, 15-20 years old; one female, 18-22 years old; one infant, one-to-two years old; and one infant one-and-a-half to two years old of indeterminate sex. No known individuals were identified. No associated funerary objects are present.

In 1959, human remains representing, at minimum, six individuals were removed from the Greenwich Municipal Building Site, in Fairfield, CT. The human remains were discovered and brought to the Bruce Museum by four boys, ages 12-15, Archie and Barry Walker, Eugene Angeley, and Charles Stumps. The exact location of burial site is unknown, but it is believed to be in the vicinity of the Town of Greenwich Department of Parks & Recreation storage facility building (built before 1951), located west of Indian Field Road and north of Davis Avenue, and in the public space known as Bruce Park. An accession record reads, “These bones, evidently parts of at least two skeletons were found on a dump (in) back of Building Department Work Shop. Evidently a disturbed burying ground and probably Indian, pierced shells and worn end of stone pestle having been found close to the remains by these boys.” Whether the human remains were unearthed elsewhere and dumped on this site, or were actually unearthed at the site is not clear. Although no record of a Town of Greenwich Building Department Work Shop exists, the Town of Greenwich Department of Parks & Recreation storage facility building in Bruce Park is still used as a dump site for soil.

The human remains include one probable female, 20-25 years old; two adolescents 9-10 years old of indeterminate sex; one probable male, 18-20 years old; one probable male, age unknown; and one possible female, 9-10 years old. No known individuals were identified. The seven associated funerary objects are three pierced oyster shells, two pierced clam shells, one basalt adze fragment, and one granite cobble.

In July 1936, human remains representing, at minimum, one individual were removed from the Gravel Pit Old Greenwich Site, in Fairfield County, CT. A steam shovel working in a gravel pit exposed the human remains of one partial human skull and possibly a kitchen midden or refuse pit. As reported by Bernard W. Powell (Bulletin of the Massachusetts Archaeological Society, Vol. 23, No. 2, January 1962, p. 28): “Workmen accidentally uncovered the burial while stripping gravel and turned the skull over to local police. After a lapse of some days, the find was brought to the attention of P.G. Howes, Curator of Bruce Museum. Together with P.T. Jones, (Bruce Museum custodian/caretaker) he went to the site and attempted to recover whatever else might be disclosed. Unfortunately, finds were minimal since most material had by then been removed . . . H.L. Shapiro of the American Museum of Natural History subsequently examined the cranium, and Howes quotes him as having said that such an angular, flat-sided skull with pentagonal shaped roof is characteristic of Indians, but Shapiro would not say positively that the find was Indian. The record concluded that the burial was evidently about 3½′ deep in glacial sands and gravel, and was evidently a midden type interment.” Howes reported on an accession card that “the find was worked for days, but only the above items were recovered.” Howes indicated that the shells and quartz chips were “associated with the burial.”

The human remains are of a probable male, 40-50 years old. No known individuals were identified. The six associated funerary objects are one lot of common slipper shells/fragments, one lot of scallop shells/fragments, one lot of hard shell clams/fragments; one lot of softshell clams/fragments, one lot of oyster fragments, and one lot of quartz debitage.

All the human remains in this notice were determined to be Native American by Connecticut State Archaeologist, Nicholas Bellantoni, who with Ed Sarabia, Tlingit, Indian Affairs Coordinator, Connecticut Commission on Indian Affairs, performed a skeletal and dentition analysis on October 25, 1995. The period associated with these three sites is unknown, as no reliable temporal indictors were recovered or recorded. An absence of pottery suggests a Late Archaic designation, but no other diagnostic artifacts were recovered to provide confirmation. Published site reports include historical references to Native American peoples in this area (Suggs 1956; Powell 1958; Wiegand 1987; and Snow 1980:319-335).

The historical presence of both the Mashantucket Pequot and Mohegan Tribes in the area now encompassed within the State of Connecticut is known. Also, geographical, folkloric, oral traditional, and historical information support a relationship of shared group identity which can be reasonably traced between the present-day Mashantucket Pequot and Mohegan Tribes and the pre-contact Eastern Lenni Lenape who inhabited the region which includes the present Town of Greenwich. As presented in The Lasting of the Mohegans Part I: The Story of the Wolf People (1995) by Melissa Jane Fawcett, a Mohegan Tribal Historian, tribal tradition recounts the origin story of the Mohegan as one of the three original Lenni Lenape clans. Recounted in the Tale of Chahnameed, the Wolf Clan (known as the Mohiksinug or Mohegans) eventually migrated to upstate New York, “moved to the Connecticut coast, where they were named Pequotaug, translated as “Invaders.” The name was eventually shortened to Pequot and adopted by the Mohegans for regular use.”

Determinations Made by the Bruce Museum, Inc.

Officials of the Bruce Museum, Inc. have determined that:

• Pursuant to 25 U.S.C. 3001(9), the human remains described in this notice represent the physical remains of 14 individuals of Native American ancestry.

• Pursuant to 25 U.S.C. 3001(3)(A), the 13 objects described in this notice are reasonably believed to have been placed with or near individual human remains at the time of death or later as part of the death rite or ceremony.

• Pursuant to 25 U.S.C. 3001(2), there is a relationship of shared group identity that can be reasonably traced between the Native American human remains and associated funerary objects and the Mashantucket Pequot Indian Tribe (previously listed as Mashantucket Pequot Tribe of Connecticut) and the Mohegan Tribe of Indians of Connecticut (previously listed as Mohegan Indian Tribe of Connecticut), hereafter referred to as “The Tribes.”

Additional Requestors and Disposition

Lineal descendants or representatives of any Indian Tribe or Native Hawaiian organization not identified in this notice that wish to request transfer of control of these human remains and associated funerary objects should submit a written request with information in support of the request Kirsten J. Reinhardt, NAGPRA Coordinator, Bruce Museum Inc., 1 Museum Drive, Greenwich, CT 06830, telephone (914) 671-9321, email kreinhardt@brucemuseum.org, by September 10, 2020. After that date, if no additional requestors have come forward, transfer of control of the human remains and associated funerary objects to The Tribes may proceed.

The Bruce Museum, Inc. is responsible for notifying The Consulted Tribes that this notice has been published.

Dated: July 7, 2020.
Melanie O'Brien,
Manager, National NAGPRA Program.

[FR Doc. 2020-17487 Filed 8-10-20; 8:45 am]

BILLING CODE 4312-52-P